DEPARTMENT OF THE INTERIOR

National Park Service

Going-to-the-Sun Road Advisory Committee; Meeting

AGENCY: National Park Service, Interior.

ACTION: Notice of Meeting for the Going-to-the-Sun Road Advisory Committee.

SUMMARY: This notice announces a scheduled meeting of the Going-to-the-Sun Road Advisory Committee. Notice of this meeting is required under the Federal Advisory Committee Act (P.L. 92-463).

MEETING DATE AND TIME: Monday, September 25, 2000 (8 a.m. to 12 noon and 1 p.m. to 6 p.m.); and Tuesday, September 26, 2000 (8 a.m. to 12 noon and 1 p.m. to 5 p.m.).

MEETING LOCATION: Community Building, Headquarters, Glacier National Park, West Glacier, Montana 59936, 406-888-7897.

AGENDA: During the morning of September 25 the Going-to-the-Sun Road Advisory Committee will have a field reconnaissance on the Going-to-the-Sun Road (GTSR). In the afternoon the committee will hear and discuss MK Centennials preliminary findings and recommendations on the Engineering Study, Socioeconomic Analysis, Cultural Landscape Report, and the Transportation/Visitor Use Study. The meeting will then open for Public Comment at 5:00 p.m. On September 26 the Advisory Committee will discuss and refine MK Centennials preliminary Conceptual Engineering alternatives for the rehabilitation of the GTSR. Discussion of the Public Involvement Strategy and an Advisory Committee Business Meeting will occur in the afternoon. The meeting will then be open for Public Comment at noon and at 3:30 p.m.

The Committee meeting will be open to the public. Space and facilities to accommodate the public are limited and attendees will be accommodated on a first-come basis. Anyone may file with the Committee a written statement concerning matters to be discussed. The Committee may also permit attendees to address the Committee, but may restrict the length of presentations, as necessary to allow the Committee to complete its agenda within the allotted time.

Anyone who wishes further information concerning the meeting, or who wishes to submit a written statement, may contact Dayna Hudson, Office of the Superintendent, Glacier National Park, P.O. Box 128, West Glacier, Montana 59936 (telephone 406-888-7972).

Draft minutes of the meeting will be available for public information 30 days after the meeting in the Project Manager's Office, Park Headquarters, Glacier National Park, West Glacier, Montana.

John Crowley,
Acting Director, Intermountain Region.

[FR Doc. 00-24078 Filed 9-19-00; 8:45 am]

BILLING CODE 4310-70-P